ENVIRONMENTAL PROTECTION AGENCY

[FRL-6884-2]

Proposed Administrative Cost Recovery Settlement Under Section 122(h) of the Comprehensive Environmental Response, Compensation, and Liability Act; Silvertone Plating Company Superfund Site

AGENCY: Environmental Protection Agency ( EPA).

ACTION: Notice; Request for public comment.

SUMMARY: In accordance with section 122(i) of the Comprehensive Environmental Response, Compensation and Liability Act of 1984, as amended (CERCLA), 42 U.S.C. 9622(i), notice is hereby given of a proposed administrative settlement concerning the Silvertone Plating Company hazardous waste site located at 7 Emerick Street, just south of the Conrail Railroad tracks, in Ypsilanti Township, Washtenaw County, Michigan. The EPA Superfund Division Director, Region 5, signed the agreement on August 17, 2000. The settlement resolves an EPA claim under section 107(a) of CERCLA against Mr. Fred Wilcox, a past owner and operator of the Site, for the costs EPA incurred in conducting a removal action at the Site. The settlement requires Mr. Wilcox to pay $18,500 to the Hazardous Substance Superfund, as partial reimbursement of EPA's costs of $222,025.90. In exchange, EPA would provide a covenant not to sue Mr. Wilcox, and the contribution protection provided by Sections 113(f)(2) and 122(h)(4) of CERCLA, 42 U.S.C. 9613(f)(2) and 9622(h)(4). The settlement amount is based primarily upon Mr. Wilcox's ability to pay. The Site is not on the NPL and no further response action is anticipated at this time.

For thirty (30) days following the date of publication of this notice, the Agency will receive written comments relating to the settlement. The Agency will consider all comments received and may modify or withdraw its consent to the settlement if comments received disclose facts or considerations which indicate that the settlement is inappropriate, improper, or inadequate.

DATES: Comments must be provided on or before November 22, 2000.

ADDRESSES: The proposed settlement agreement and the Agency's response to any comments received will be available for public inspection at the Superfund Records Center, 7th floor, U.S. EPA, Region 5, 77 West Jackson Boulevard, Chicago, Illinois 60604. A copy of the proposed settlement agreement may be obtained from Michael J. McClary, Office of Regional Counsel, (C-14J), U.S. EPA, Region 5, 77 West Jackson Boulevard, Chicago, Illinois 60604-3590; telephone (312) 886-7163. Comments should reference the Silvertone Plating Company Superfund Site and should be addressed to Michael J. McClary, Office of Regional Counsel, (C-14J), U.S. EPA, Region 5, 77 West Jackson Boulevard, Chicago, Illinois 60604-3590.

FOR FURTHER INFORMATION CONTACT: Michael J. McClary at the address specified immediately above; telephone (312) 886-7163.

Dated: September 25, 2000.
Margaret Guerriero,
Acting Director, Superfund Division.

[FR Doc. 00-27152 Filed 10-20-00; 8:45 am]

BILLING CODE 6560-50-P